NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection: NRC Form 4, “Cumulative Occupational Dose History” and NRC Form 5, “Occupational Exposure Record for a Monitoring Period”.

3. The form number if applicable: NRC Form 4 (3150-0005); NRC Form 5 (3150-0006).

4. How often the collection is required: NRC Form 4: Occasionally NRC Form 5: Annually.

5. Who will be required or asked to report: NRC licensees who are required to comply with 10 CFR part 20.

6. An estimate of the number of annual responses: NRC Form 4: 24,352 (24,164 from reactor licensees and 188 from materials licensees) and NRC Form 5: 175,456 (161,396 from reactor licensees and 14,060 from materials licensees).

7. The estimated number of annual respondents: NRC Form 4: 239 (104 reactor sites and 135 materials licensees); NRC Form 5: 4,602 (104 reactors and 135 materials licensees, plus an additional 4,363 materials licensees recordkeepers).

8. An estimate of the total number of hours needed annually to complete the requirement or request: NRC Form 4: 12,176 hours or an average of 0.5 hours per response; NRC Form 5: 67,460 hours (57,900 hours for recordkeeping or an average of 0.33 hours per record and 9,560 hours for reporting or an average of 40 hours per licensee).

9. An indication of whether Section 3507(d), Pub. L. 104-13 applies: Not applicable.

10. Abstract: NRC Form 4 is used to record the summary of an individual's cumulative occupational radiation dose up to and including the current year to ensure that the dose does not exceed regulatory limits.

NRC Form 5 is used to record and report the results of individual monitoring for occupational radiation exposure during a one-year (calendar year) period to ensure regulatory compliance with annual radiation dose limits.

A copy of the final supporting statement may be viewed free of charge at the NRC Public Document Room, One White Flint North, 11555 Rockville Pike, Room O-1 F21, Rockville, MD 20852. OMB clearance requests are available at the NRC Worldwide Web site: http://www.nrc.gov/public-involve/doc-comment/omb/index.html. The document will be available on the NRC home page site for 60 days after the signature date of this notice.

Comments and questions should be directed to the OMB reviewer listed below by September 20, 2004. Comments received after this date will be considered if it is practical to do so, but assurance of consideration cannot be given to comments received after this date. OMB Desk Officer, Office of Information and Regulatory Affairs (3150-0005 and 3150-0006), NEOB-10202, Office of Management and Budget, Washington, DC 20503. Comments can also be submitted by telephone at (202) 395-3087.

The NRC Clearance Officer is Brenda Jo. Shelton, 301-415-7233.

Dated at Rockville, Maryland, this 12th day of August, 2004. For the Nuclear Regulatory Commission.
Beth St. Mary,
Acting NRC Clearance Officer, Office of the Chief Information Officer.

[FR Doc. 04-19104 Filed 8-19-04; 8:45 am]

BILLING CODE 7590-01-P